DEPARTMENT OF LABOR

Employment and Training Administration

[TA-W-37,563]

Tecumseh Products Company, Somerset, Kentucky; Notice of Negative Determination Regarding Application for Reconsideration

By application dated July 7, 2000, attorneys on behalf of the workers (hereinafter referenced as the petitioner), request administrative reconsideration of the Department's negative determination regarding eligibility to apply for Trade Adjustment Assistance (TAA), applicable to workers and former workers of the Tecumseh Products Company, Somerset, Kentucky. The denial notice was signed on May 12, 2000, and published in the Federal Register on June 8, 2000 (65 FR 36469).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

To support the application for reconsideration, the petitioner provided a published article quoting a company official of Tecumseh Products Company linking the Somerset plant closing with the dumping of cheap Asian compressors in the United States, devastating the subject firm customer base. The petitioner states also that the article cites that the layoffs and plant closure are intended to help Tecumseh cut prices so it can combat the challenge.

The workers at Tecumseh Products Company, Somerset, Kentucky, produced refrigeration and air conditioner compressors. The workers were denied eligibility to apply for TAA based on the finding that the contributed importantly criterion (3) of the worker group eligibility requirements of Section 222 of the Trade Act of 1974, as amended, was not met. Section 222 (3) requires that increased imports of articles like or directly competitive with those produced at the subject firm contribute importantly to declines in sales or production and worker separations. Layoffs at Tecumseh Products Company were attributable to the company's decision to transfer production to other domestic facilities. The investigation further revealed that the majority of the output at the Somerset, Kentucky plant was for the export market. A lost of export market business cannot be considered a basis for worker group certification.

Conclusion

After review of the application and investigative findings, In conclude that there has been no error or misinterpretation of the law or of the facts which would justify reconsideration of the Department of Labor's prior decision. Accordingly, the application is denied.

Signed at Washington, D.C., this 17th day of July 2000.
Grant D. Beale,
Program Manager, Division of Trade Adjustment Assistance.

[FR Doc. 00-19410 Filed 7-31-00; 8:45 am]

BILLING CODE 4510-30-M